DEPARTMENT OF COMMERCE

National Oceanic and Atmospheric Administration

[I.D. 030700A]

Submission for OMB Review; Proposed Information Collection; Request for Comments

The Department of Commerce (DoC) has submitted to the Office of Management and Budget (OMB) for clearance the following proposal for collection of information under the provisions of the Paperwork Reduction Act (44 U.S.C. Chapter 35).

Agency: National Oceanic and Atmospheric Administration (NOAA).

Title: Application Instructions for a Permit for Scientific Purposes or to Enhance the

Propagation or Survival of Threatened or Endangered Species.

Agency Form Number(s): None.

OMB Approval Number: None.

Type of Request: New collection.

Burden Hours: 4,400.

Number of Respondents: 240.

Average Hours Per Response: Ranges between 10 to 40 hours depending on the requirement.

Needs and Uses: The National Marine Fisheries Services (NMFS) is responsible for the conservation and recovery of marine and anadromous species listed as threatened or endangered under the Endangered Species Act (ESA) of 1973. Section 10 of the ESA allows for certain exceptions, such as a taking that would be incidental to an otherwise lawful activity. NOAA has issued regulations to provide for application and reporting for such exceptions. The information is used to evaluate the proposed activity (permits) and on-going activities (reports) and is necessary for NMFS to ensure the conservation of the species under the ESA.

Frequency: On Occasion.

Respondent's Obligation: Mandatory.

OMB Desk Officer: David Rostker, (202) 395-3897.

Copies of the above information collection proposal can be obtained by calling or writing Linda Engelmeier, DoC Forms Clearance Officer, (202) 482-3272, Department of Commerce, Room 5027, 14th and Constitution Avenue, NW, Washington, DC 20230 (or via the Internet at Lengelme@doc.gov).

Written comments and recommendations for the proposed information collection should be sent with 30 days of publication of this notice to David Rostker, OMB Desk Officer, Room 10202, New Executive Office Building, 725 17th Street, NW, Washington, DC 20503.

Dated: March 3, 2000.
Linda Engelmeier,
Departmental Forms Clearance Officer, Office of the Chief Information Officer.

[FR Doc. 00-5905 Filed 3-9-00; 8:45 am]

BILLING CODE 3510-22-F